DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer on (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project Title: Evaluation of the text4baby Program—(OMB No. 0915-NEW)—NEW

Background: Text4baby is a free mobile health education service that provides pregnant women and mothers with an infant under one year of age with free, evidence-based, brief health messages. An educational program led by the National Healthy Mothers, Healthy Babies coalition (HMHB), text4baby is intended to help women in having safe and healthy pregnancies by empowering them with information they need to give their babies the best possible start in life. The text4baby service was launched nationally in February 2010. Text4baby is made possible through a broad, public-private partnership that includes government and tribal agencies, corporations, academic institutions, professional associations, and non-profit organizations.

The goal of this program evaluation is to examine the characteristics of women who utilize the text4baby mobile phone-based program, assess their experience with the program, and determine whether text4baby is associated with timely access to prenatal care and healthy behaviors during pregnancy and through the first year of the infant's life. This information will help the Department of Health and Human Services to understand the usefulness of using mobile technology and the potential for expanding and/or adapting mobile phone messaging to additional health topics or conditions. The study may also offer insight into planning and implementing similar projects.

Purpose: The purpose of the evaluation is to assess behavior change and the usefulness of the text4baby messages on current subscribers to the program. There are four components to the evaluation:

• Mobile survey of current subscribers to the text4baby program.

• Consumer Safety Net Survey of subscribers and non-subscribers to the text4baby program in safety net settings.

• Focus Groups of current subscribers to ensure more in-depth qualitative data are collected regarding the usefulness of the messages and the program.

• Key Informant Interviews of a diverse mix of providers in safety net settings to examine any utility from the provider perspective. Providers could include case managers, outreach workers, and health educators.

• Key Stakeholder Interviews of community stakeholders that have built partnerships and coalitions around text4baby at a local, State, regional or national level to examine factors related to coalition building, sustainability and partnership.

The estimated response burden is as follows:

Instrument | Number of respondents | Responses per respondent | Total responses | Hours per response | Total burden hours
Mobile Survey | 10,000 | 4 | 40,000 | .16 | 6,667
Consumer Safety Net Survey | 2,000 | 2 | 4,000 | 1 | 4,000
Focus Groups | 80 | 1 | 80 | 1.5 | 120
Key Informant Interviews | 20 | 1 | 20 | .75 | 15
Stakeholder Interviews | 30 | 1 | 30 | .75 | 22.5
Total | 12,130 |  | 44,130 |  | 10,824.50

E-mail comments to paperwork@hrsa.gov or mail the HRSA Reports Clearance Officer, Room 10-33, Parklawn Building, 5600 Fishers Lane, Rockville, MD 20857. Written comments should be received within 60 days of this notice.

Dated: November 23, 2010.
Robert Hendricks,
Director, Division of Policy and Information Coordination.

[FR Doc. 2010-30174 Filed 11-29-10; 8:45 am]

BILLING CODE 4165-15-P